AGENCY FOR INTERNATIONAL DEVELOPMENT

Senior Executive Service: Membership of Performance Review Board

ACTION: Notice.

SUMMARY: The Performance Review Board will initiate their labors on or about November 15, 2000. The following persons are members of the Performance Review Board for 2000.

Members:

Corbett Flannery, Chair

Robert Lester, SES Member

Elmer S. Owens, SES Member

Roxann A. Van Dusen, SES Member

Lois E. Hartman, Public Member

FOR FURTHER INFORMATION CONTACT: Mary Anne Conboy, 202-712-5438.

Dated: November 7, 2000.
Henry W. Reynolds,
Executive Secretary, Executive Resources Board.

[FR Doc. 00-29390 Filed 11-15-00; 8:45 am]

BILLING CODE 6116-01-M